DEPARTMENT OF THE TREASURY

Alcohol and Tobacco Tax and Trade Bureau

27 CFR Part 9

[Docket No. TTB-2015-0006; Notice No. 150]

RIN 1513-AC18

Proposed Establishment of the Eagle Foothills Viticultural Area

AGENCY: Alcohol and Tobacco Tax and Trade Bureau, Treasury.

ACTION: Notice of proposed rulemaking.

SUMMARY: The Alcohol and Tobacco Tax and Trade Bureau (TTB) proposes to establish the approximately 49,815-acre “Eagle Foothills” viticultural area in Gem and Ada Counties in Idaho. The proposed viticultural area lies entirely within the Snake River Valley viticultural area. TTB designates viticultural areas to allow vintners to better describe the origin of their wines and to allow consumers to better identify wines they may purchase. TTB invites comments on this proposed addition to its regulations.

DATES: Comments must be received by June 15, 2015.

ADDRESSES: Please send your comments on this notice to one of the following addresses:

• Internet: http://www.regulations.gov (via the online comment form for this notice as posted within Docket No. TTB-2015-0006 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200-E, Washington, DC 20005.

See the Public Participation section of this notice for specific instructions and requirements for submitting comments, and for information on how to request a public hearing or view or obtain copies of the petition and supporting materials.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated December 10, 2013, to the TTB Administrator to perform the functions and duties in the administration and enforcement of this law.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes the standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed viticultural AVA;

• The appropriate United States Geological Survey (USGS) map(s) showing the location of the proposed AVA, with the boundary of the proposed AVA clearly drawn thereon; and

• A detailed narrative description of the proposed AVA boundary based on USGS map markings.

Eagle Foothills Petition

TTB received a petition from Martha Cunningham, owner of the 3 Horse Ranch Vineyards, on behalf of the local grape growers and vintners, proposing the establishment of the “Eagle Foothills” AVA. The original proposed name for the AVA was “Willow Creek Idaho.” However, after TTB determined that the name evidence provided in the petition did not sufficiently demonstrate that the region is known by that name, the petitioner submitted a request to change the proposed AVA name to “Eagle Foothills.”

The proposed Eagle Foothills AVA covers portions of Gem and Ada Counties, Idaho, and is located to the immediate north of the city of Eagle and approximately 10 miles northwest of the city of Boise. The proposed AVA lies entirely within the established Snake River Valley AVA (27 CFR 9.208) and does not overlap any other existing or proposed AVA. The proposed Eagle Foothills AVA contains approximately 49,815 acres, with 9 commercially-producing vineyards covering a total of 67 acres distributed throughout the proposed AVA. The petition states that an additional 4 acres will soon be added to an existing vineyard. Additionally, 7 commercial vineyards covering approximately 472 acres are planned within the proposed AVA in the next few years.

According to the petition, the distinguishing features of the proposed Eagle Foothills AVA include its topography, soils, and climate. Unless otherwise noted, all information and data pertaining to the proposed AVA contained in this document are from the petition for the proposed Eagle Foothills AVA and its supporting exhibits.

Name Evidence

The proposed Eagle Foothills AVA is located on the southwestern flanks of Prospect Peak and Crown Point, two prominent peaks in the mountainous region known as the “Boise Front,” which rises to the east of the proposed AVA. Due to its location north of the city of Eagle and within the foothills of the Boise Front, the region of the proposed AVA is commonly referred to as the “Eagle Foothills.”

The petitioner provided several examples of the use of “Eagle Foothills” to refer to the region of the proposed AVA. For example, a local ranch offers several guided horseback tours, including one through the “Eagle Foothills.” ¹ A Web site dedicated to hiking in Idaho features the “Eagle Foothills Little Gulch Loop” trail, which is located within the proposed AVA.² A news story from a local television station described a wildfire within the proposed AVA, which destroyed several houses in “the Eagle Foothills.” ³ A Web site dedicated to news and reviews of wines from the northwestern United States features a story about 3 Horse Ranch Vineyards, which is located within the proposed AVA, and refers to the vineyard and winery as being located “in the Eagle Foothills north of Boise.” ⁴ The Ada County Highway District Web site includes a page about transportation projects “in and around the Eagle Foothills,” including funding to improve State Highway 16, which runs through the proposed AVA.⁵ A real estate listing for a home for sale within the proposed AVA, describes the home as being “close to the Eagle Foothills equestrian trails.” ⁶ Finally, a planned community being developed within a portion of the proposed AVA is described as covering “land running . . . along the Eagle Foothills.” ⁷

¹ www.sweetpepperranch.com/local-attractions/riding-destinations/eagle-foothills.

² www.trimbleoutdoors.com/ViewTrip/1709698.

³ www.ktvb.com/story/local/2014/07/16/11528375.

⁴ Eric Degerman. “Idaho's high-elevation Pinot Gris produces awards, fans.” Great Northwest Wine, June 11, 2013. www.greatnorthwestwine.com/2013/06/11.

⁵ www.achdidaho.org/projects/PublicProject.aspx?ProjectID=124.

⁶ www.brechtproperties.com/Property/3175-W-Homer-Road-Eagle-Idaho.

⁷ www.m3companiesllc.com/communities/m3eagle.

Boundary Evidence

The northern boundary of the proposed Eagle Foothills AVA follows straight lines drawn between peaks marked on the USGS Southwest Emmett and Southeast Emmett quadrangle maps. The boundary separates the rugged terrain of the proposed AVA from the lower, flatter elevations of Emmett Valley and the Payette River Plain. The proposed eastern boundary follows the 3,400-foot elevation contour and lines drawn between peaks on the USGS Pearl and Eagle quadrangle maps to approximate the eastern boundary of the established Snake River Valley AVA. TTB notes that the proposed boundary is only an approximation of the Snake River Valley AVA because the established AVA's boundaries were drawn using maps that measure elevations in meters instead of feet. The proposed eastern boundary separates the proposed AVA from the higher elevations of the Boise Front, including Prospect Peak and Crown Point. The proposed southern boundary follows roads marked on the USGS Eagle, Star, and Middleton quadrangle maps in order to separate the proposed AVA from the lower elevations and urban landscape of the cities of Eagle and Boise. The proposed western boundary follows the Ada-Canyon County line and separates the proposed AVA from the lower elevations and flatter terrain of the Boise River Plain.

Distinguishing Features

The distinguishing features of the proposed Eagle Foothills AVA include its topography, soils, and climate.

Topography

According to the petition, the proposed Eagle Foothills AVA is located within the Unwooded Alkaline Foothills ecoregion of Idaho.⁸ This ecoregion is defined as an arid, sparsely populated region of rolling foothills, benches, and alluvial fans commonly underlain by alkaline lake bed deposits. Perennial streams are rare, but limited agriculture occurs where there is water available for irrigation. Most of the landscape is used for grazing livestock or as wildlife habitat.

⁸ C.L. McGrath, Ecoregions of Idaho (Reston, VA: U.S. Geological Survey, 2002).

A network of seasonal creeks, including Willow Creek, Big Gulch Creek, Little Gulch Creek, Woods Gulch, and their tributaries, flow southwesterly through the proposed AVA and have etched deep gulches. The rugged terrain has a variety of slope aspects, including a multitude of south-facing slopes that are preferred by vineyard owners. Slope angles vary within the proposed AVA from 2 to 15 degrees, with an average of 8 degrees. Elevations within the proposed AVA range from 2,490 feet to approximately 3,400 feet, with an average elevation of approximately 2,900 feet.

The topography of the proposed Eagle Foothills AVA is distinguishable from that of the surrounding regions. To the north of the proposed AVA is Emmett Valley and the Payette River Plain, which are classified within the Treasure Valley ecoregion of Idaho. The Treasure Valley ecoregion is described as being heavily irrigated for agricultural purposes and having a much greater population density than the Unwooded Alkaline Foothills ecoregion in which the proposed AVA is located.⁹ Elevations in Emmett Valley and the Payette River Plain are lower and flatter than within the proposed AVA. To the east of the proposed AVA is the mountainous region known as the Boise Front, which has higher elevations than the proposed AVA. Crown Point and Prospect Peak, the two peaks in the Boise Front that are closest to the proposed AVA, reach 5,163 feet and 4,867 feet, respectively. To the south and west of the proposed AVA is the Boise River Plain, which has lower elevations and is classified as a continuation of the Treasure Valley ecoregion. Slope angles are shallow in the Boise River Plain, averaging less than 2 percent. The region to the south of the proposed AVA is also heavily urbanized and contains the cities of Boise and Eagle, in contrast with the relatively undeveloped proposed AVA.

⁹ Ibid.

The topography of the proposed Eagle Foothills AVA has an effect on viticulture. For example, the elevations within the proposed AVA are higher than the elevations in the regions to the north, west and south, so cold air drains away from the proposed AVA and pools in the neighboring plains and valleys. As a result, damaging frosts are not as common within the proposed AVA as they are in the lower surrounding regions. Additionally, the abundance of south-facing slopes within the proposed AVA allows vineyards to be planted where the vines can receive the most sunlight. According to the petition, a vineyard on a south-facing slope with a 10 percent slope angle can receive 25 percent more sunlight than a vineyard planted on a flat site.

Soils

Loams, sandy loams, coarse sandy loams, and stony loams are the predominate soils of the proposed Eagle Foothills AVA. These soils derived from the erosion of the sedimentary bedrock that once formed the bottom of the ancient Lake Idaho, as well as from the erosion of the granitic mountains of the Boise Front. Small amounts of volcanic ash are present in the soils, and levels of organic matter are low. The soils are notable for their large, irregularly shaped, coarse grains, which allow water to drain quickly and thoroughly and contribute to a relatively low water-holding capacity. Depth to bedrock ranges from 25 to 50 inches, and pH levels range from mildly acidic (6.75) to mildly alkaline (7.25).

The soils of the surrounding regions are distinguishable from the soils of the proposed AVA. To the north and south of the proposed AVA, the soils are primarily derived from active flood-plain alluvium from the Payette and Boise River systems, respectively. These soils have a finer, more uniform texture and greater water-holding capacity than the coarser, larger-grained soils of the proposed Eagle Foothills AVA. To the east, the soils in the mountains of the Boise Front are derived primarily from granite and volcanic materials and lack the sedimentary materials found in the soils of the proposed AVA. To the west of the proposed AVA, the soils become increasingly fine-grained and the depth to bedrock increases due to greater wind-blown and alluvial deposition. According to the petition, soils to the west of the proposed AVA can reach depths of 150 inches or more.

The soils of the proposed Eagle Foothills AVA have an effect on viticulture. The large, coarse, irregularly shaped grains found in most of the soils of the proposed AVA do not fit together tightly, allowing for “pockets” of oxygen to form between the grains. These “pockets” promote healthy root growth because if a soil is too compacted, the roots can essentially suffocate and die from lack of oxygen. The spaces between soil grains also discourage rot and mildew because they allow water to drain more rapidly than finer, uniform soil grains that are more closely packed together. The depth of the soil within the proposed AVA allows roots to reach depths that are deep enough to not be overly sensitive to changes in soil moisture level, but the soils are not so deep as to encourage overly vigorous vine growth. Finally, the pH levels of the soils are neutral enough to promote the optimal absorption of necessary mineral nutrients such as zinc and iron.

Climate

The petition provided information to show that the climate of the proposed Eagle Foothills AVA is distinguishable from that of the surrounding regions. The following table from the petition summarizes the annual precipitation amounts, average growing season temperature, growing degree day (GDD) accumulation ¹⁰, last spring and first fall frost dates, and length of the frost-free period for the proposed AVA and the surrounding regions ¹¹. Because there are no weather stations located within the proposed AVA, the petitioner used the PRISM climate model ¹² to estimate the temperature and precipitation data for the proposed AVA.

¹⁰ In the Winkler climate classification system, annual heat accumulation during the growing season, measured in annual growing degree days (GDD), defines climatic regions. One GDD accumulates for each degree Fahrenheit that a day's mean temperature is above 50 degrees, the minimum temperature required for grapevine growth (“General Viticulture,” by Albert J. Winkler, University of California Press, 1974, pages 61-64).

¹¹ Data for the listed weather stations gathered from the Western Regional Climate Center, www.wrcc.dri.edu.

¹² The Parameter Elevation Regression on Independent Slopes Model (PRISM) climate data mapping system combined climate normals gathered from weather stations, along with other factors such as elevation, longitude, slope angles, and solar aspect to estimate the general climate patterns for the proposed AVA and the surrounding regions. Climate normals are only calculated every 10 years, using 30 years of data, and at the time the petition was submitted, the most recent climate normals available were from the period of 1971-2000.

Variable | Proposed Eagle Foothills AVA | Caldwell (southwest of proposed AVA) | Emmett (north of proposed AVA) | Nampa (southwest of proposed AVA) | Boise-“7 N” Station (east of proposed AVA) | Boise-Air Terminal Station (southeast of proposed AVA)
Average annual precipitation (inches) | 14.3 | 11.4 | 13.8 | 10.9 | 19.2 | 11.7.
Average annual GDD accumulation | 2,418 | 2,939 | 2,728 | 2,695 | 2,299 | 2,930.
Average date of last spring frost | May 12 | April 24 | May 6 | May 5 | May 24 | May 10.
Average date of first fall frost | October 3 | October 7 | October 7 | October 11 | October 5 | October 6.
Average annual frost-free period (days) | 144 | 165 | 153 | 160 | 133 | 149.

The proposed Eagle Foothills AVA has a cool climate, as evidenced by the short growing season and low GDD accumulations. The cool climate of the proposed AVA places it in Region 1b of the Winkler classification system, meaning that early- and mid-season varieties of grapes, such as Chardonnay, Pinot Gris, and Riesling, can successfully grow and ripen. Additionally, the cool temperatures of the proposed AVA produce grapes with lower acidity levels than the same grape varietals grown in warmer climates. Finally, the rainfall amounts within the proposed AVA are sufficient to promote healthy vine growth but also are low enough to produce small berries with concentrated flavors that are not diluted by an excess of water.

The climate of the proposed Eagle Foothills AVA is different from that of the surrounding region. The higher elevations to the east, where the Boise “7N” weather station is located, have higher precipitation amounts, a shorter growing season, and lower GDD accumulations (indicating cooler growing season temperatures) that would not allow most varieties of grapes to ripen reliably. The Caldwell, Emmett, Nampa, and Boise Air Terminal weather stations, all of which are at lower elevations than the proposed AVA, have lower precipitation amounts, a longer growing season, and higher GDD accumulations (indicating warmer growing season temperatures). Based on the GDD accumulations, these lower plains regions are classified as Region II areas in the Winkler classification system.

Summary of Distinguishing Features

In summary, the topography, soils, and climate of the proposed Eagle Foothills AVA distinguish it from the surrounding regions. The following table, derived from information in the petition, compares the features of the proposed AVA to the features of the surrounding areas.

Region | Characteristics
Proposed Eagle Foothills AVA | Rugged terrain; moderate elevations; low GDD accumulations; short growing season; moderate annual rainfall amounts; rapidly-draining coarse-grained soils derived from sedimentary bedrock.
North, South, and West of proposed AVA | Flat valley terrain; low elevations; low annual rainfall amounts; high GDD accumulations; long growing season; slow draining, fine-grained soils derived from alluvium.
East of proposed AVA | Mountainous terrain; very high elevations; very low GDD accumulations; very short growing season; high annual rainfall amounts; soils derived from granite and volcanic material.

Comparison of the Proposed Eagle Foothills AVA to the Existing Snake River Valley AVA

Snake River Valley AVA

T.D. TTB-59, which published in the Federal Register on March 9, 2007 (72 FR 10598), established the Snake River Valley AVA in portions of southeastern Oregon and southwestern Idaho. The AVA covers the remains of the ancient Lake Idaho, which filled the western part of the Snake River Valley approximately 4 million years ago. Much of the AVA boundary follows the 1,040-meter elevation contour because conditions above that elevation are not conducive to viticulture. The Snake River Valley AVA is described in T.D. TTB-59 as a semiarid desert with annual rainfall amounts of 10 to 12 inches and as having a frost-free period from May 10 to September 29. Vineyards within the AVA are typically planted in shallow soils on slopes.

The proposed Eagle Foothills AVA is located along the eastern edge of the Snake River Valley AVA and shares some broad characteristics with the established AVA. The proposed AVA is also located within the remains of ancient Lake Idaho at elevations below 1,040 meters (approximately 3,412 feet). Like much of the Snake River Valley AVA, the proposed Eagle Foothills AVA is a semiarid region with vineyards planted on slopes to maximize sunlight exposure and minimize the risk of frost. However, the proposed viticultural area receives several more inches of rainfall annually, in comparison with the majority of the Snake River Valley AVA. Additionally, the growing season for the proposed Eagle Foothills AVA is slightly longer. Finally, although T.D. TTB-59 states that the soils within the large Snake River Valley AVA are too varied to be a distinguishing feature, the much smaller proposed Eagle Foothills AVA has fairly uniform soil characteristics throughout, and the soils of the proposed AVA can be distinguished from the soils of the surrounding regions.

TTB Determination

TTB concludes that the petition to establish the approximately 49,815-acre Eagle Foothills AVA merits consideration and public comment, as invited in this notice of proposed rulemaking.

Boundary Description

See the narrative description of the boundary of the petitioned-for AVA in the proposed regulatory text published at the end of this proposed rule.

Maps

The petitioner provided the required maps, and they are listed below in the proposed regulatory text.

Impact on Current Wine Labels

Part 4 of the TTB regulations prohibits any label reference on a wine that indicates or implies an origin other than the wine's true place of origin. For a wine to be labeled with an AVA name or with a brand name that includes an AVA name or other term identified as being viticulturally significance in part 9 of the TTB regulations, at least 85 percent of the wine must be derived from grapes grown within the area represented by that name or other term, and the wine must meet the other conditions listed in 27 CFR 4.25(e)(3). If the wine is not eligible for labeling with an AVA name or other viticulturally significant term and that name or term appears in the brand name, then the label is not in compliance and the bottler must change the brand name and obtain approval of a new label. Similarly, if the AVA name or other viticulturally significant term appears in another reference on the label in a misleading manner, the bottler would have to obtain approval of a new label. Different rules apply if a wine has a brand name containing an AVA name or other viticulturally significant term that was used as a brand name on a label approved before July 7, 1986. See § 4.39(i)(2) of the TTB regulations (27 CFR 4.39(i)(2)) for details.

If TTB establishes this proposed AVA, its name, “Eagle Foothills,” will be recognized as a name of viticultural significance under § 4.39(i)(3) of the TTB regulations (27 CFR 4.39(i)(3)). The text of the proposed regulation clarifies this point. Consequently, wine bottlers using the name “Eagle Foothills” in a brand name, including a trademark, or in another label reference as to the origin of the wine, would have to ensure that the product is eligible to use the AVA name as an appellation of origin if this proposed rule is adopted as a final rule.

The approval of the proposed Eagle Foothills AVA would not affect any existing AVA, and any bottlers using “Snake River Valley” as an appellation of origin or in a brand name for wines made from grapes grown within the Snake River Valley would not be affected by the establishment of this new AVA. The establishment of the proposed Eagle Foothills AVA would allow vintners to use “Eagle Foothills” and “Snake River Valley” as appellations of origin for wines made from grapes grown within the proposed Eagle Foothills AVA, if the wines meet the eligibility requirements for the appellation.

Public Participation

Comments Invited

TTB invites comments from interested members of the public on whether it should establish the proposed AVA. TTB is also interested in receiving comments on the sufficiency and accuracy of the name, boundary, soils, climate, and other required information submitted in support of the petition. In addition, given the proposed Eagle Foothills AVA's location within the existing Snake River Valley AVA, TTB is interested in comments on whether the evidence submitted in the petition regarding the distinguishing features of the proposed AVA sufficiently differentiates it from the existing Snake River Valley AVA. TTB is also interested in comments on whether the geographic features of the proposed AVA are so distinguishable from the surrounding Snake River Valley AVA that the proposed Eagle Foothills AVA should no longer be part of that AVA. Please provide any available specific information in support of your comments.

Because of the potential impact of the establishment of the proposed Eagle Foothills AVA on wine labels that include the term “Eagle Foothills” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this notice by using one of the following three methods:

• Federal e-Rulemaking Portal: You may send comments via the online comment form posted with this notice within Docket No. TTB-2015-0006 on “Regulations.gov,” the Federal e-rulemaking portal, at http://www.regulations.gov. A direct link to that docket is available under Notice No. 150 on the TTB Web site at http://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 200-E, Washington, DC 20005.

Please submit your comments by the closing date shown above in this notice. Your comments must reference Notice No. 150 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2015-0006 on the Federal e-rulemaking portal, Regulations.gov, at http://www.regulations.gov. A direct link to that docket is available on the TTB Web site at http://www.ttb.gov/wine/wine_rulemaking.shtml under Notice No. 150. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also view copies of this notice, all related petitions, maps and other supporting materials, and any electronic or mailed comments that TTB receives about this proposal by appointment at the TTB Information Resource Center, 1310 G Street NW., Washington, DC 20005. You may also obtain copies at 20 cents per 8.5- x 11-inch page. Please note that TTB is unable to provide copies of USGS maps or other similarly-sized documents that may be included as part of the AVA petition. Contact TTB's information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.___ to read as follows:

§ 9. Eagle Foothills.

(a) Name. The name of the viticultural area described in this section is “Eagle Foothills”. For purposes of part 4 of this chapter, “Eagle Foothills” is a term of viticultural significance.

(b) Approved maps. The 6 United States Geological Survey (USGS) 1:24,000 scale topographic maps used to determine the boundary of the Eagle Foothills viticultural area are titled:

(1) Southwest Emmett, Idaho, 1970;

(2) Southeast Emmett, Idaho, provisional edition 1985;

(3) Pearl, Idaho, provisional edition 1985;

(4) Eagle, Idaho, 1998;

(5) Star, Idaho, 1953; and

(6) Middleton, Idaho, 1958; photorevised 1971.

(c) Boundary. The Eagle Foothills viticultural area is located in Gem and Ada Counties in Idaho. The boundary of the Eagle Foothills viticultural area is as described below:

(1) The beginning point is on the Southwest Emmett map at the intersection of the Ada, Gem, and Canyon County lines at the southwestern corner of section 31, T6N/R1W.

(2) From the beginning point, proceed north along the western boundary of sections 31 and 30 to the northwest corner of section 31, T6N/R1W; then

(3) Proceed north-northeast in a straight line to the marked 3,109-foot elevation point near the southwest corner of section 31, T6N/R1W; then

(4) Proceed northeast in a straight line, crossing onto the Southeast Emmett map, to the marked 3,230-foot elevation point in section 22, T6N/R1W; then

(5) Proceed east-northeast in a straight line to the marked 3,258-foot elevation point in section 23, T6N/R1W; then

(6) Proceed easterly in a straight line to the 3,493-foot elevation point in section 23, T6N/R1W; then

(7) Proceed northeast in a straight line to the 3,481-foot elevation point in section 13, T6N/R1W; then

(8) Proceed northeast in a straight line to the intersection of the marked 4-wheel drive trail with the R1W range line; then

(9) Proceed north along the R1W range line to its first intersection with the 3,400-foor elevation contour; then

(10) Proceed east along the meandering 3,400-foot elevation contour, crossing onto the Pearl map, then continuing easterly, then southerly, along the meandering 3,400-foot elevation contour, crossing Schiller Creek, the North and South Forks of Willow Creek, and Big Gulch Creek, to the first intersection of the 3,400-foot contour line with the R1E/R2E range line, with forms the eastern boundary of section 13, T5N/R1E; then

(11) Proceed southeast in a straight line to the marked 3,613-foot elevation in point Section 18, T5N/R2E; then

(12) Proceed southwest in a straight line to the marked 3,426-foot elevation point in Section 24, T5N/R1E; then

(13) Proceed west in a straight line to the marked 3,416-foot elevation point in Section 24, T5N/R1E; then

(14) Proceed west in a straight line to the marked 3,119-foot elevation point in Section 23, T5N/R1E; then

(15) Proceed south in a straight line to the marked 3,366-foot elevation point in Section 23, T5N/R1E; then

(16) Proceed southwest in a straight line, crossing onto the Eagle map, to the marked 3,372-foot elevation point in Section 26, T5N/R1E; then

(17) Proceed northwest in a straight line, crossing back onto the Pearl map, to the marked 3,228-foot elevation point in Section 22, T5N/R1E; then

(18) Proceed southwest in a straight line to the marked 3,205-foot elevation point in Section 22, T5N/R1E; then

(19) Proceed south in a straight line, crossing onto the Eagle map, to the marked 3,163-foot elevation point in Section 27, T5N/R1E; then

(20) Proceed southwest in a straight line to the marked 2,958-foot elevation point in Section 28, T5N/R1E; then

(21) Proceed southwest in a straight line to the northeast corner of section 32, T5N/R1E; then

(22) Proceed south along the eastern boundary of Section 32 to the point where the boundary joins Pearl Road, then continue south along Pearl Road to the intersection of the road with Beacon Road; then

(23) Proceed west along Beacon Road, crossing onto the Star map, to the intersection of Beacon Road with an unnamed light-duty road known locally as North Wing Road at the southern boundary of section 32, T5N/R1W; then

(24) Proceed south along North Wing Road to the intersection of the road with New Hope Road in Section 5, T4N/R1W; then

(25) Proceed west along New Hope Road, crossing onto the Middleton map, to the intersection of the road with the Ada-Canyon County line; then

(26) Proceed north along the Ada-Canyon County line, crossing onto the Southwest Emmett map, to the beginning point.

Signed: April 7, 2015.
John J. Manfreda,
Administrator.

[FR Doc. 2015-08496 Filed 4-13-15; 8:45 am]

BILLING CODE 4810-31-P